DEPARTMENT OF HEALTH AND HUMAN SERVICES

Food and Drug Administration

[Docket No. FDA-2010-N-0124]

Agency Information Collection Activities; Submission for Office of Management and Budget Review; Comment Request; Requirements Under the Comprehensive Smokeless Tobacco Health Education Act of 1986, as Amended by the Family Smoking Prevention and Tobacco Control Act

AGENCY: Food and Drug Administration, HHS.

ACTION: Notice.

SUMMARY: The Food and Drug Administration (FDA) is announcing that a proposed collection of information has been submitted to the Office of Management and Budget (OMB) for review and clearance under the Paperwork Reduction Act of 1995 (the PRA).

DATES: Fax written comments on the collection of information by August 9, 2010.

ADDRESSES: To ensure that comments on the information collection are received, OMB recommends that written comments be faxed to the Office of Information and Regulatory Affairs, OMB, Attn: FDA Desk Officer, FAX: 202-395-7285, or e-mailed to oira_submission@omb.eop.gov. All comments should be identified with the OMB control number 0910-NEW and title “Requirements Under the Comprehensive Smokeless Tobacco Health Education Act of 1986, as Amended by the Family Smoking Prevention and Tobacco Control Act.” Also include the FDA docket number found in brackets in the heading of this document.

FOR FURTHER INFORMATION CONTACT: Jonna Capezzuto, Office of Information Management, Food and Drug Administration, 1350 Piccard Dr., PI50-400B, Rockville, MD 20850, 301-796-3794, Jonnalynn.Capezzuto@fda.hhs.gov.

SUPPLEMENTARY INFORMATION: In compliance with 44 U.S.C. 3507, FDA has submitted the following proposed collection of information to OMB for review and clearance.

Requirements Under the Comprehensive Smokeless Tobacco Health Education Act of 1986, as Amended by the Family Smoking Prevention and Tobacco Control Act—(OMB Control Number 0910-NEW)

On June 22, 2009, the President signed the Tobacco Control Act (Public Law 111-31) into law. The Smokeless Tobacco Act (15 U.S.C. 4402), as amended by section 204 of the Tobacco Control Act, requires that manufacturers, packagers, importers, distributors, and retailers (in limited circumstances) of smokeless tobacco products include one of four specified health warning label statements on product packages and in advertisements.¹ The Smokeless Tobacco Act, as amended, also requires smokeless tobacco product manufacturers, importers, distributors, and certain retailers to submit a plan to FDA specifying the method to rotate, display, and distribute the specified health warning label statements required to appear in advertising and packaging. FDA is required to review each plan submitted and approve the plan if it provides for rotation, display, and distribution of warnings in compliance with the requirements of the Smokeless Tobacco Act. To the best of FDA's knowledge, all of the affected companies have previously submitted similar plans to the Federal Trade Commission (FTC), which had authority to implement the requirements of the Smokeless Tobacco Act prior to the Tobacco Control Act's amendments. However, because the requirements of the Smokeless Tobacco Act have been revised and because FDA now has authority to implement the Smokeless Tobacco Act, each affected company will be required to submit a new plan to FDA instead of FTC. The Tobacco Control Act's amendments to the Smokeless Tobacco Act are effective on June 22, 2010.

¹ The warnings themselves disclose information completely supplied by the Federal Government. As such, the disclosure does not constitute a “collection of information” as it is defined in the regulations implementing the PRA, nor, by extension, do the financial resources expended in relation to it constitute paperwork “burden.” (See 5 CFR 1320.3(c)(2).)

On August 7, 2007, FTC published a 30-day notice (72 FR 44138) announcing an opportunity for public comment and that the information collection would be sent to OMB for review. Based on FTC's previous experience with the submission of rotational plans and FDA's experience with smokeless tobacco companies (e.g., correspondence associated with user fees under section 919 of the Federal Food, Drug, and Cosmetic Act, as amended by the Tobacco Control Act), FDA estimates that there are 14 companies affected by this information collection. To account for the entry of new smokeless tobacco companies who may be affected by this information collection, FDA is estimating the total number of respondents to be 20.

When FTC originally implemented the rotational plan requirements in 1986, the Smokeless Tobacco Council, Inc., indicated that the six companies it represented would require 700-800 hours in total (133 hours each) to complete an initial rotational plan, involving multiple brands, multiple brand varieties, and multiple forms of both packaging and advertising. When FTC requested an extension of their PRA clearance in 2007, FTC decreased the estimate for submitting an initial plan from 143 hours to 60 hours, accounting for increased computerization and improvements in electronic communication over the subsequent 20 years since the Smokeless Tobacco Act was enacted. FDA believes the estimate of 60 hours to complete an initial rotational plan continues to be reasonable. However, because the requirements of the new Smokeless Tobacco Act are unfamiliar to industry, FDA is increasing the time estimate for submitting initial plans to 100 hours.

In the Federal Register of March 16, 2010 (75 FR 12552), FDA published a 60-day notice requesting public comment on the proposed collection of information. No comments were received on this information collection.

FDA estimates the burden of this collection of information as follows:

Table 1.—Estimated Annual Reporting Burden¹
Activity | No. of Respondents | Annual Frequency per Response | Total Annual Responses | Hours per Response | Total Hours
Submission of rotational plans for health warning label statements | 20 | 1 | 20 | 100 | 2,000
¹ There are no capital costs or operating and maintenance costs associated with this collection of information.

Dated: July 2, 2010.
Leslie Kux,
Acting Assistant Commissioner for Policy.

[FR Doc. 2010-16805 Filed 7-8-10; 8:45 am]

BILLING CODE 4160-01-S